SECURITIES AND EXCHANGE COMMISSION

[File No. 500-1]

In the Matter of Aphton Corp., Apollo International of Delaware, Inc., Applewoods, Inc., Applied Nanoscience, Inc., Aquacell Technologies, Inc. (n/k/a Greencore Technology, Inc.), Aquagenix, Inc., Aquapro Corp., Asconi Corp., Asia Electronics Holding Co., Inc., Asian Star Development, Inc., Associated Golf Management, Inc. (n/k/a Delta Mining & Exploration Corp.), Avalon Borden Companies, Inc., Avasoft, Inc., Aviation Holdings Group, Inc., and Azur Holdings, Inc.; Order of Suspension of Trading

June 17, 2010.

It appears to the Securities and Exchange Commission that there is a lack of current and accurate information concerning the securities of Aphton Corp. because it has not filed any periodic reports since the period ended December 31, 2005.

It appears to the Securities and Exchange Commission that there is a lack of current and accurate information concerning the securities of Apollo International of Delaware, Inc. because it has not filed any periodic reports since the period ended September 30, 1998.

It appears to the Securities and Exchange Commission that there is a lack of current and accurate information concerning the securities of Applewoods, Inc. because it has not filed any periodic reports since the period ended March 31, 1998.

It appears to the Securities and Exchange Commission that there is a lack of current and accurate information concerning the securities of Applied Nanoscience, Inc. because it has not filed any periodic reports since February 11, 2008.

It appears to the Securities and Exchange Commission that there is a lack of current and accurate information concerning the securities of Aquacell Technologies, Inc. (n/k/a Greencore Technology, Inc.) because it has not filed any periodic reports since the period ended June 30, 2008.

It appears to the Securities and Exchange Commission that there is a lack of current and accurate information concerning the securities of Aquagenix, Inc. because it has not filed any periodic reports since the period ended December 31, 1998.

It appears to the Securities and Exchange Commission that there is a lack of current and accurate information concerning the securities of Aquapro Corp. because it has not filed any periodic reports since the period ended December 31, 2002.

It appears to the Securities and Exchange Commission that there is a lack of current and accurate information concerning the securities of Asconi Corp. because it has not filed any periodic reports since the period ended September 30, 2005.

It appears to the Securities and Exchange Commission that there is a lack of current and accurate information concerning the securities of Asia Electronics Holding Co., Inc. because it has not filed any periodic reports since the period ended December 31, 1997.

It appears to the Securities and Exchange Commission that there is a lack of current and accurate information concerning the securities of Asian Star Development, Inc. because it has not filed any periodic reports since the period ended September 30, 2002.

It appears to the Securities and Exchange Commission that there is a lack of current and accurate information concerning the securities of Associated Golf Management, Inc. (n/k/a Delta Mining & Exploration Corp.) because it has not filed any periodic reports since February 8, 2000.

It appears to the Securities and Exchange Commission that there is a lack of current and accurate information concerning the securities of Avalon Borden Companies, Inc. because it has not filed any periodic reports since the period ended November 30, 2000.

It appears to the Securities and Exchange Commission that there is a lack of current and accurate information concerning the securities of Avasoft, Inc. because it has not filed any periodic reports since the period ended September 30, 2007.

It appears to the Securities and Exchange Commission that there is a lack of current and accurate information concerning the securities of Aviation Holdings Group, Inc. because it has not filed any periodic reports since the period ended September 30, 2000.

It appears to the Securities and Exchange Commission that there is a lack of current and accurate information concerning the securities of Azur Holdings, Inc. because it has not filed any periodic reports since the period ended October 31, 2006.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on June 17, 2010, through 11:59 p.m. EDT on June 30, 2010.

By the Commission.
Jill M. Peterson,
Assistant Secretary.

[FR Doc. 2010-15040 Filed 6-17-10; 4:15 pm]

BILLING CODE 8010-01-P